NATIONAL ARCHIVES AND RECORDS ADMINISTRATION

36 CFR Part 1253

RIN 3095-AB50

NARA Facility Locations and Hours

AGENCY: National Archives and Records Administration (NARA).

ACTION: Proposed rule.

SUMMARY: NARA proposes to revise its regulations on the locations and hours of NARA facilities to reflect the relocation of two facilities in the past fiscal year. This proposed rule will affect the public.

DATES: Comments are due by June 12, 2006.

ADDRESSES: NARA invites interested persons to submit comments on this proposed rule. Please include “Attn: RIN 3095-AB50” and your name and mailing address in your comments. Comments may be submitted by any of the following methods:

• Federal eRulemaking Portal: http://www.regulations.gov. Follow the instructions for submitting comments.

• Fax: Submit comments by facsimile transmission to 301-837-0319.

• Mail: Send comments to Regulations Comments Desk (NPOL), Room 4100, Policy and Planning Staff, National Archives and Records Administration, 8601 Adelphi Road, College Park, MD 20740-6001.

• Hand Delivery or Courier: Deliver comments to 8601 Adelphi Road, College Park, MD.

FOR FURTHER INFORMATION CONTACT: Laura McCarthy at 301-837-3023 or fax number 301-837-0319.

SUPPLEMENTARY INFORMATION: The NARA—Southeast Region (Atlanta) records center relocated from East Point, Georgia, to Ellenwood, Georgia. The hours of the facility are Monday through Friday, 7:30 a.m. to 3 p.m. The NARA—Pacific Region (Riverside) records center moved from Laguna Niguel, California, to Riverside, California; the hours at this facility are Monday through Friday, 8:45 a.m. to 3 p.m. for scheduled appointments.

This proposed rule is not a significant regulatory action for the purposes of Executive Order 12866 and has not been reviewed by the Office of Management and Budget. As required by the Regulatory Flexibility Act, I certify that this rule will not have a significant impact on a substantial number of small entities because this rule applies to agencies and individual researchers. This regulation does not have any federalism implications.

List of Subjects in 36 CFR Part 1253

Archives and records.

For the reasons set forth in the preamble, NARA proposes to amend part 1253 of title 36, Code of Federal Regulations, as follows:

PART 1253—LOCATIONS OF RECORDS AND HOURS OF USE

1. The authority citation for part 1253 continues to read as follows:

Authority: 44 U.S.C. 2104(a).

2. Amend § 1253.6 by revising paragraphs (d) and (l) to read as follows:

§ 1253.6 Records centers.

* * * * *

(d) NARA—Southeast Region (Atlanta) is located at 4712 Southpark Blvd., Ellenwood, GA 30294. The hours are 7:30 a.m. to 3 p.m., Monday through Friday. The telephone number is 404-736-2820.

* * * * *

(l) NARA—Pacific Region (Riverside) is located at 23123 Cajalco Road, Perris, CA 92570-7298. The hours are 8:45 a.m. to 3 p.m., Monday through Friday for scheduled appointments. The telephone number is 951-956-2000.

* * * * *

Dated: May 8, 2006.
Allen Weinstein,
Archivist of the United States.

[FR Doc. E6-7263 Filed 5-11-06; 8:45 am]

BILLING CODE 7515-01-P